DEPARTMENT OF ENERGY

Federal Energy Regulatory Commission

[Docket No. CP21-197-000]

Kern River Gas Transmission Company; Notice of Availability of the Draft Environmental Impact Statement for the Proposed Delta Lateral Project

The staff of the Federal Energy Regulatory Commission (FERC or Commission) has prepared an environmental impact statement (EIS) for the Delta Lateral Project, proposed by Kern River Gas Transmission Company (Kern River) in the above-referenced docket. Kern River requests authorization to construct, own, and operate approximately 35 miles of 24-inch-diameter pipeline and related appurtenances to deliver natural gas to the Intermountain Power Project in Millard County, Utah. The Project purpose is to provide firm transportation service of 140,000 dekatherms of natural gas per day from Opal, Wyoming to the Intermountain Power Project, an electrical generating facility in Delta, Utah. Prior to filing its application, Kern River participated in the Commission's Pre-filing Process for this Project under Docket No. PF20-4-000.

The draft EIS assesses the potential environmental effects of the construction and operation of the Delta Lateral Project in accordance with the requirements of the National Environmental Policy Act (NEPA). As described in the draft EIS, the FERC staff concludes that approval of the Project would result in some adverse environmental impacts; however, with the exception of climate change impacts, these impacts would be reduced to less-than-significant levels because of the impact avoidance, minimization, and mitigation measures proposed by Kern River and those recommended by staff in the EIS. FERC staff is unable to determine the significance level of climate change impacts.

The U.S. Department of the Interior, Bureau of Land Management (BLM), participated as a cooperating agency in the preparation of the EIS. Cooperating agencies have jurisdiction by law or special expertise with respect to resources potentially affected by the proposal and participate in the NEPA analysis. A portion of the Project would be constructed on lands managed by the BLM Fillmore Field Office. Because the BLM must comply with the requirements of NEPA before issuing a right-of-way grant, BLM has elected to cooperate in this NEPA process and adopt the EIS per Title 40 of the Code of Federal Regulations, Section 1506.3.

The Project would consist of the following specific facilities:

• A 35.84-mile-long, 24-inch-diameter natural gas pipeline;

• a delivery meter station;

• two mainline taps with automated lateral inlet valve assemblies;

• an in-line inspection device launcher and receiver;

• an automated lateral block valve assembly; and

• ancillary facilities.

The draft EIS is not a decision document. It presents Commission staff's independent analysis of the environmental issues for the Commission to consider when addressing the merits of all issues in this proceeding. Any person wishing to comment on the draft EIS may do so. Your comments should focus on the draft EIS's disclosure and discussion of potential environmental effects, including climate impacts due to downstream greenhouse gas emissions, and measures to avoid or lessen environmental impacts. To ensure consideration of your comments on the proposal in the final EIS, it is important that the Commission receive your comments on or before 5:00 p.m. Eastern Time on December 27, 2021.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP21-197-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: November 5, 2021.
Kimberly D. Bose,
Secretary.

[FR Doc. 2021-24654 Filed 11-10-21; 8:45 am]

BILLING CODE 6717-01-P